DEPARTMENT OF AGRICULTURE

Forest Service

Supplemental to Final Environmental Impact Statement for Uncompahgre National Forest Travel Plan; Grand Mesa, Uncompahgre and Gunnison National Forests; Montrose, Gunnison, Mesa, San Miguel, Ouray, Hinsdale, and San Juan Counties, Colorado

AGENCY: Forest Service, USDA.

ACTION: Notice of Intent to Prepare a Supplement to the Final Environmental Impact Statement (EIS) in conjunction with an amendment of the land and resource management plan for the Grand Mesa, Uncompahgre and Gunnison National Forests.

SUMMARY: Over a six-year period the Forest Service, working with the public, developed the Uncompahgre National Forest Travel Plan and decision. The process included 38 open public meetings, a Draft Environmental Impact Statement, a Final Environmental Impact Statement and a Record of Decision finally published in April of 2000 (published notices 62 FR 25162-25163, 63 FR 49911, 65 FR 26198). The Uncompahgre Travel Plan Decision of April 2000 was reversed on appeal. The issue of Forest Plan compliance with the standard for Habitat Capability was raised in the appeal. In his reversal decision, Deputy Regional Forester Tom Thompson instructed the Forest Supervisor to “promptly begin a new decisionmaking process” incorporating a “procedural remedy of the NEPA/NFMA flaw” discovered through the appeal. NEPA is the National Environmental Policy Act, which requires Environmental Analyses of proposed Federal actions; NFMA is the National Forest Management Act, which establishes Forest Plans.

The Forest Service will prepare a supplement to the Final Environmental Impact Statement (FEIS) for the Uncompahgre National Forest Travel Plan. The supplement will examine a proposed amendment to the Land and Resource Management Plan for the Grand Mesa, Uncompahgre, Gunnison National Forests (GMUG) to accommodate departure from the Forest Plan standards for Habitat Capability for an Uncompahgre Travel Plan Decision. Alternatives will be considered, including the No Action Alternative.

Public Participation: Scoping is not a required part of the preparation of a Supplement to an EIS. However limited scoping was conducted, with a comment period from mid September through October 20, 2000. There was an open public meeting at the Montrose Pavilion on September 27, to discuss this proposal.

ADDRESSES: To be included on the mailing list to receive copies of the Draft Supplement to the FEIS please send your address to: Uncompahgre Travel Plan, GMUG National Forests, 2250 Highway 50, Delta, CO 81416.

Responsible Official: Robert L. Storch, Forest Supervisor of the Grand Mesa, Uncompahgre and Gunnison National Forests, 2250 Highway 50, Delta, CO.

FOR FURTHER INFORMATION CONTACT: Jeff Burch, Project Leader, at (970) 874-6600.

SUPPLEMENTARY INFORMATION: We expect to file a draft supplement to the final environmental impact statement with the Environmental Protection Agency (EPA) and make it available for public comment on December 2000. At that time, the EPA will publish a notice of availability for the DSEIS in the Federal Register. The comment period on the DSEIS will be 60 days from the date the EPA publishes the notice of availability in the Federal Register. The agency expects to file a final SEIS in April 2001.

The Forest Service believes, at this early stage, it is important to give reviewers notice of several court rulings related to public participation in the environmental review process. First, reviewers of the DSEIS must participate in the environmental review of the proposal in such a way that their participation is meaning full and alerts an agency to the reviewer's position and contentions; Vermont Yankee Nuclear Power Corp. v. NRDC. 435 U.S. 519, 553 (1978). Is very important that those interested in this proposed action participate by the close of the 60 day comment period that will be provided for public review of the Draft Supplement to the EIS, so that substantive comments and objections are made available to the Forest Service at a time when it can meaningfully consider them and respond to them in the FSEIS.

To assist the Forest Service in identifying and considering issues and concerns relating to the proposed actions, comments on the DSEIS should be as specific as possible. It is also helpful if comments refer to specific pages or chapters of the draft statement. Comments may also address the adequacy of the DSEIS or the merits of the alternatives formulated and discussed in the statements. In addressing these points, reviewers may wish to refer to the Council on Environmental Quality Regulations for implementing the procedural provisions of the National Environmental Policy Act at 40 CFR 1503.3.

After the comment period on the DSEIS ends, comments will be analyzed, considered, and responded to by the Forest Service in preparing the Final Supplemental EIS. The FSEIS is scheduled to be completed in April 2001. The responsible official will consider the comments, responses, environmental consequences discussed in the FSEIS, and applicable laws, regulations, and policies in making decisions regarding these revisions. The responsible official will document the decisions and reasons for the decisions in a Record of Decision. The decision will be subject to appeal in accordance with 36 CFR 215.

Dated: October 30, 2000.
Robert L. Storch,
Forest Supervisor, Grand Mesa, Uncompahgre and Gunnison National Forests, Rocky Mountain Region, USDA Forest Service.

[FR Doc. 00-29283 Filed 11-15-00; 8:45 am]

BILLING CODE 3410-11-M